DEPARTMENT OF TRANSPORTATION

Federal Motor Carrier Safety Administration

[Docket No. FMCSA-2007-28660]

Agency Information Collection Activities; Revision of an Approved Information Collection: Accident Recordkeeping Requirements

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. This information collection concerns the requirement that motor carriers maintain a record of all accidents in which their commercial motor vehicles (CMVs) are involved. The collection is necessary for FMCSA to assess the effectiveness of the safety management controls of motor carriers. On April 23, 2007, FMCSA published a Federal Register notice allowing for a 60-day comment period on the ICR. One comment was received.

DATES: Please send your comments by September 24, 2007. OMB must receive your comments by this date in order to act quickly on the ICR.

ADDRESSES: You may submit comments to the Office of Information and Regulatory Affairs, Office of Management and Budget, 725 Seventeenth Street, NW., Washington, DC 20503, Attention: DOT/FMCSA Desk Officer.

FOR FURTHER INFORMATION CONTACT: Mr. Tom Yager, Chief, Driver & Carrier Operations Division, Office of Bus & Truck Standards and Development (MC-PSD): Telephone: 202-366-4009; e-mail MCPSD@dot.gov.

SUPPLEMENTARY INFORMATION:

Title: Accident Recordkeeping Requirements.

OMB Control Number: 2126-0009.

Type of Request: Revision of a currently-approved collection.

Respondents: Motor Carriers.

Estimated Number of Respondents: 106,800 motor carriers.

Estimated Time per Response: 18 minutes.

Expiration Date: September 30, 2007.

Frequency of Response: Once per year.

Estimated Total Annual Burden: 32,040 hours. 106,800 motor carriers recording an accident × 18 minutes per response/60 minutes in an hour.

Background

Title 49 of the Code of Federal Regulations, Section 390.15, requires interstate motor carriers to maintain an “accident register” consisting of a list of “accidents” (as defined in 49 CFR 390.5) that involve their CMVs and occur in interstate or intrastate commerce. The register may be electronic. The information for each accident must include, at a minimum, the following elements: Date of accident; city or town in which or most near where the accident occurred and the State in which the accident occurred; driver name; number of injuries; number of fatalities; and whether hazardous materials, other than fuel spilled from the fuel tanks of motor vehicles involved in the accident, were released. In addition, the register must contain copies of all accident reports required by State or other governmental entities or insurers. A motor carrier must maintain the required information in the accident register for three years after the date of the accident.

The FMCSA uses this data to analyze the safety performance of motor carriers and drivers of CMVs. This information supports the DOT strategic goal of safety. Information concerning crashes strengthens FMCSA's ability to assess motor carrier safety performance and to assist motor carriers in preventing crashes and reducing crash severity. The FMCSA uses this data to target motor carriers with the weakest safety records.

Response to Comment: On April 23, 2007, FMCSA published a Federal Register notice allowing for a 60-day comment period on the proposed renewal of this ICR. One comment was received from the American Trucking Association (ATA). In that comment, the ATA asked the Agency to reconsider its calculations to account for the fact that the States historically under-report their accidents to FMCSA. For this ICR, FMCSA did not use the accident data reported by the States to FMCSA. The Agency employed two databases compiled by the National Highway Traffic Safety Administration because they produced the most accurate and reliable data for calculating the paperwork burden of this ICR.

Public Comments Invited: You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information.

Issued on: August 17, 2007.
Terry Shelton,
Associate Administrator for Research and Information Technology.

[FR Doc. E7-16724 Filed 8-23-07; 8:45 am]

BILLING CODE 4910-EX-P